DEPARTMENT OF THE INTERIOR

Geological Survey

[GX20EG33DW20300; OMB Control Number 1028-0111]

Agency Information Collection Activities; The National Map Corps (TNMCorps)—Volunteered Geographic Information Project

AGENCY: Geological Survey, Interior.

ACTION: Notice of information collection; request for comment.

SUMMARY: In accordance with the Paperwork Reduction Act of 1995, we, the U.S. Geological Survey (USGS) are proposing to renew an information collection.

DATES: Interested persons are invited to submit comments on or before December 22, 2020.

ADDRESSES: Send your comments on this information collection request (ICR) by mail to U.S. Geological Survey, Information Collections Officer, 12201 Sunrise Valley Drive, MS 159, Reston, VA 20192; or by email to gs-info_collections@usgs.gov. Please reference OMB Control Number 1028-0111 in the subject line of your comments.

FOR FURTHER INFORMATION CONTACT: To request additional information about this ICR, contact Erin Korris by email at ekorris@usgs.gov, or by telephone at 303-202-4503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Map Corps (TNMCorps) is the name of the U.S. Geological Survey (USGS) National Geospatial Program (NGP) project that encourages citizen participation in volunteer map data collection activities. TNMCorps uses crowdsourcing—new technologies and internet services to georeference structure points and share this information with others on map-based internet platforms—to produce volunteered geographic information (VGI). People participating in the crowd sourcing are considered part of the TNMCorps. In general, the National Structures Dataset (NSD) has been populated with the best available national data. This data has been exposed for initial improvement by TNMCorps volunteers via the online Map Editor (the instrument). In addition, the data goes through a tiered-editing process, which includes Peer Review and Advanced Editors. At each stage the data is passed through an automatic “magic filter” to look for data issues before being submitted into the NSD. In addition data goes through sampling for quality assurance procedures.

Data within the NSD is available to the USGS; as well as to the public, at no cost via The National Map and US Topo.

Data quality studies in 2012, 2014, and 2018 showed that the volunteers' actions were accurate and exceeded USGS quality standards. Volunteer-collected data showed an improvement in both location and attribute accuracy for existing data points. Completeness, or the extent to which all appropriate features were identified and recorded, was also improved.

Title of Collection: The National Map Corps—Volunteered Geographic Information Project.

OMB Control Number: 1028-0111.

Form Number: None.

Type of Review: Renewal of a currently approved collection.

Respondents/Affected Public: General public.

Total Estimated Number of Annual Respondents: 665.

Total Estimated Number of Annual Responses: 100,000.

Estimated Completion Time per Response: 12 minutes on average.

Total Estimated Number of Annual Burden Hours: 20,000.

Respondent's Obligation: Voluntary.

Frequency of Collection: On occasion.

Total Estimated Annual Nonhour Burden Cost: There are no “non-hour cost” burdens associated with this IC.

An agency may not conduct, or sponsor and a person is not required to respond to a collection of information unless it displays a currently valid OMB control number.

The authority for this action is the Paperwork Reduction Act of 1995 (44 U.S.C. 3501 et seq).

David Brostuen,
Acting Director, National Geospatial Technical Operations Center USGS.

[FR Doc. 2020-23459 Filed 10-22-20; 8:45 am]

BILLING CODE 4338-11-P